DEPARTMENT OF THE INTERIOR

Bureau of Land Management

[CACA-47658, CA-670-5101 ER B204]

Notice of Availability of the Recirculated Draft Environmental Impact Report/Supplemental Draft Environmental Impact Statement for the Proposed Sunrise Powerlink Project

AGENCY: Bureau of Land Management.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM), together with the California Public Utilities Commission (CPUC), in compliance with the California Environmental Quality Act (CEQA, Pub. Res. Code § 21000 et seq.), has prepared a Recirculated Draft EIR/Supplemental Draft EIS (RDEIR/SDEIS) to augment the analysis for the Sunrise Powerlink Project proposed by San Diego Gas & Electric Company (SDG&E).

DATES: In order to comply with NEPA regulations at 40 CFR 1502.9(c)(4), comments on the RDEIR/SDEIS must be postmarked or received within 45 days following the date the Environmental Protection Agency publishes its Notice of Availability in the Federal Register. You may submit comments by U.S. mail, electronic mail, or fax. Only written comments may be submitted. There will be no opportunity to make oral comments. Comments on the RDEIR/SDEIS may only address the topics included in this document, not the contents of the original complete Draft EIR/EIS.

In addition, an informational workshop will be held during the comment period to help the public understand the RDEIR/SDEIS and to explain how to participate in the CPUC and BLM's decision-making processes. The workshop will be announced at least 15 days in advance through local news media, public notices, mailings, and agency Web sites.

ADDRESSES: By Mail: Please use first-class postage and be sure to include your name and return address. Send written comments to CPUC/BLM c/o Aspen Environmental Group, 235 Montgomery Street, Suite 935, San Francisco, CA 94104. By Electronic Mail: E-mail communications are welcome; but, please remember to include your name and return address in the e-mail message. E-mail messages should be sent to sunrise@aspeneg.com. By Fax: You may fax your comments to (866) 711-3106. Please remember to include your name and return address in the fax, write legibly, and use black or blue ink.

FOR FURTHER INFORMATION CONTACT: Information concerning the BLM/NEPA process may be obtained from Lynda Kastoll, Project Manager, BLM, 1661 S. 4th Street, El Centro, CA 92243; telephone (760) 337-4421; e-mail lkastoll@ca.blm.gov. Information concerning the CPUC/CEQA process may be obtained from Billie Blanchard, Project Manager, CPUC, 505 Van Ness Ave., San Francisco, CA 94102; telephone (415) 703-2068; e-mail at BCB@cpuc.ca.gov.

The RDEIR/SDEIS will be available for review at numerous area libraries and on the project Web site: http://www.cpuc.ca.gov/environment/info/aspen/sunrise/sunrise.htm. A compact disc (CD) containing the document may be requested by phone, fax at (866) 711-3106, or by e-mail at sunrise@aspeneg.com.

SUPPLEMENTARY INFORMATION: SDG&E proposes to construct a new 91-mile, 500-kilovolt (kV) electric transmission line from the Imperial Valley Substation (in Imperial County, near the City of El Centro) to a new Central East Substation (in central San Diego County, southwest of the intersection of County Highways S22 and S2) and a new 59-mile, 230-kV line that includes both overhead and underground segments from the new Central East Substation to SDG&E's existing Peñasquitos Substation (in the City of San Diego). Portions of the proposed 500-kV transmission line would traverse approximately 35 miles of federal lands managed by the BLM within the California Desert Conservation Area in Imperial County, and approximately 1 mile of BLM-administered land in San Diego County. The remainder of the proposed project would cross lands owned by various entities including the State of California, local governments, and private parties.

On January 3, 2008, the CPUC and BLM published a Draft EIR/EIS on the Sunrise Powerlink Project. The Draft EIR/EIS contained 7500+ pages in six volumes. It included an analysis of the proposed project's effects, as well as an analysis of future possible transmission lines and “connected actions” that are likely to be built if the Sunrise Powerlink Project is built. The Draft EIR/EIS also identified alternatives to the proposed project (including the No Action Alternative) and evaluated their expected environmental impacts.

A 90-day comment period on the Draft EIR/EIS ended on April 11, 2008. Nine workshops and five public participation hearings were held during the comment period, and over 2,500 pages of written comments were submitted. After the comment period, two additional public participation hearing were held on May 12, 2008.

Under CEQA, recirculation is required when significant new information changes the EIR in a way that deprives the public of a meaningful opportunity to comment upon a substantial adverse environmental effect of the project or a feasible way to mitigate or avoid such an effect. New information may include changes in the project or environmental setting as well as additional data or other information. Under the regulations implementing NEPA (40 CFR 1502.9(c)(2)(ii), a supplement to an EIS is required when there are significant new circumstances or information relevant to the environmental concerns related to the proposed project or its impacts. In this case, the new information involves changes to the “connected actions” analyzed in the Draft EIR/EIS and route revisions (“reroutes”) proposed by SDG&E in comments on the Draft EIR/EIS. The RDEIR/SDEIS includes the following components:

1. Revision of components of the Environmentally Superior Alternatives for northern and southern transmission lines. Because of Tribal opposition, the Interstate 8 Alternative now bypasses the Campo Reservation. Without Tribal approval it was also necessary to modify the Southern Environmentally Superior Route to avoid all tribal lands, following the BCD Alternative and BCD South Option. The Northern Environmentally Superior Route has been modified to add consideration of an additional underground segment in the Santa Ysabel Valley.

2. New and Revised Analysis of the La Rumorosa Wind Project. In December 2007, Sempra Generation submitted to the U.S. Department of Energy an Application for Presidential Permit, proposing a 1,250 megawatt (MW) wind project in Mexico that would include the construction of transmission lines into the United States, and a new substation located northeast of the town of Jacumba, California. The Draft EIR/EIS, in its evaluation of “connected actions” and “indirect effects”, analyzed a 250 MW wind project in Mexico that included the construction of a transmission line and a “Jacumba Substation.” However, the wind project considered in the Draft EIR/EIS was much smaller than the actual project as described by Sempra. As a result, the RDEIR/SDEIS presents new “connected action” and “indirect effects” analysis of the Sempra project.

3. Description and Analysis of Transmission Line Route Revisions. In comments on the Draft EIR/EIS, SDG&E proposed modifications to several segments of the Proposed and Alternative transmission line routes. Some of these reroutes would affect new landowners, change the potential effect on already-affected landowners, or otherwise change the environmental impact described in the Draft EIR/EIS. The RDEIR/SDEIS describes 13 reroutes.

The CPUC and BLM evaluated all comments on the Draft EIR/EIS and determined that other requests for a recirculated/supplemental document did meet the requirements defined above. The Final EIR/EIS will respond to each comment requesting recirculation, explaining why this determination was made.

An informational workshop will be held to help the public understand the RDEIR/SDEIS, and to explain how to participate in the CPUC and BLM decision-making processes. The informal workshop is an opportunity to speak with and ask questions of CPUC and BLM representatives and some of the specialists who prepared the RDEIR/SDEIS. A brief presentation will summarize the EIR/EIS process, the information presented in the RDEIR/SDEIS, and the decision making-process. Presentation notes will be available on the project Web site for those unable to attend. While written comments may be submitted during the workshop, there will be no facilities to record oral comments.

Comments received may be published as part of the EIR/EIS process. Before including your address, phone number, e-mail address, or other personal identifying information in your comment, you should be aware that your entire comment, including your personal identifying information, may be made publicly available at any time. While you can ask us in your comment to withhold your personal identifying information from public review, we cannot guarantee that we will be able to do so.

At the end of the 45-day comment period on the RDEIR/SDEIS, the CPUC and BLM will prepare a Final EIR/EIS. The Final EIR/EIS will respond to all comments received on the Draft EIR/EIS and on the RDEIR/SDEIS.

Tom Pogacnik,
Deputy State Director.

[FR Doc. E8-15943 Filed 7-10-08; 8:45 am]

BILLING CODE 4310-40-P